DEPARTMENT OF STATE

[Public Notice: 9279]

Culturally Significant Objects Imported for Exhibition Determinations: “Gauguin to Picasso: Masterworks From Switzerland, The Staechelin & Im Obersteg Collections” and “Daubigny, Monet, Van Gogh: Impressions of Landscape” Exhibitions

ACTION: Notice; correction.

SUMMARY: On July 15, 2015, notice was published on page 41545 of the Federal Register (volume 80, number 135) of determinations made by the Department of State pertaining to certain objects to be imported for temporary display in the exhibition “Gauguin to Picasso: Masterworks from Switzerland, The Staechelin & Im Obersteg Collections.” The referenced notice is corrected here to provide express notice of an extension in the period of temporary display within the United States of certain of the objects, and express notice of an additional exhibition and venue for a certain object. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that certain objects to be imported from abroad for temporary exhibition within the United States, are of cultural significance. The objects are imported pursuant to loan agreements with the foreign owners or custodians. I also determine that the exhibition or display of the exhibit objects at The Phillips Collection, Washington, District of Columbia, between on or about October 10, 2015, and on or about January 11, 2017, in the exhibition “Gauguin to Picasso: Masterworks from Switzerland, The Staechelin & Im Obersteg Collections,” and at possible additional exhibitions or venues yet to be determined, and the exhibition or display of one of the above-referenced exhibit objects at the Taft Museum of Art, Cincinnati, Ohio, from on or about February 20, 2016, until on or about May 29, 2016, in the exhibition “Daubigny, Monet, Van Gogh: Impressions of Landscape,” and at possible additional exhibitions or venues yet to be determined, is in the national interest. I have ordered that Public Notice of these Determinations be published in the Federal Register.

FOR FURTHER INFORMATION CONTACT: For further information, including a list of the imported objects, contact the Office of Public Diplomacy and Public Affairs in the Office of the Legal Adviser, U.S. Department of State (telephone: 202-632-6471; email: section2459@state.gov). The mailing address is U.S. Department of State, L/PD, SA-5, Suite 5H03, Washington, DC 20522-0505.

Dated: September 16, 2015.
Kelly Keiderling,
Principal Deputy Assistant Secretary, Bureau of Educational and Cultural Affairs, Department of State.

[FR Doc. 2015-23634 Filed 9-17-15; 8:45 am]

BILLING CODE 4710-05-P